DEPARTMENT OF TRANSPORTATION

Surface Transportation Board

[STB Finance Docket No. 33925]

Buffalo Ridge Regional Railroad Authority—Operation Exemption—Rail Line Between Manley and Worthington, MN

Buffalo Ridge Regional Railroad Authority (BRRRA),¹ a noncarrier, has filed a verified notice of exemption (notice) under 49 CFR 1150.31 to operate over its own rail line between milepost 0.0, at or near Agate, MN, and milepost 41.44, at or near Manley, MN, a distance of approximately 41.44 miles (line).² In addition, BRRRA will operate, pursuant to incidental trackage rights, over a 3.4-mile rail line owned by Union Pacific Railroad Company between Agate and Worthington, MN, for a total of 44.84 miles.³

¹ BRRRA is a political subdivision of the State of Minnesota.

² BRRRA's line is a segment of a 65.6-mile rail line previously owned and abandoned by the Chicago and North Western Transportation Company. See Chicago and North Western Transportation Company—Abandonment in Nobles and Rock Counties, MN, and Minnehaha County, SD, Docket No. AB-1 (Sub-No. 202) (ICC served June 16, 1988). According to BRRRA, it acquired the line after consummation of the abandonment in Docket No. AB-1 (Sub-No. 202) but never operated the line itself.

As noted in page 2 of the notice, BRRRA alternatively requested that, should the Board determine that BRRRA is an existing rail carrier, the notice of exemption for operation of the line should be deemed to be filed under 49 CFR 1150.41. Based on the representations made by BRRRA, use of the exemption at 49 CFR 1150.31 from the requirements of 49 U.S.C. 10901 is appropriate.

³ Nobles Rock Railroad Co. (NRRC) currently provides common carrier rail service over the line pursuant to Nobles Rock Railroad Co.—Lease and Operation Exemption—Buffalo Ridge Regional Railroad Authority, Finance Docket No. 32368 (ICC served Nov. 1, 1993). BRRRA states that NRRC appears to have become insolvent or close to insolvency and that termination of its lease to NRRC appears to be imminent. BRRRA further states that it now intends to operate the line itself.

The transaction is expected to be consummated no earlier than the September 15, 2000 effective date of the exemption.

If the notice contains false or misleading information, the exemption is void ab initio. Petitions to reopen the proceeding to revoke the exemption under 49 U.S.C. 10502(d) may be filed at any time. The filing of a petition to reopen will not automatically stay the transaction.

An original and 10 copies of all pleadings, referring to STB Finance Docket No. 33925, must be filed with the Office of the Secretary, Surface Transportation Board, Case Control Unit, 1925 K Street, NW., Washington, DC 20423-0001. In addition, a copy of each pleading must be served on Thomas F. McFarland, Jr., Esq., McFarland & Herman, 20 North Wacker Drive, Suite 1330, Chicago, IL 60606-2902.

Board decisions and notices are available on our website at “WWW.STB.DOT.GOV.”

Decided: September 14, 2000.
By the Board, David M. Konschnik, Director, Office of Proceedings.
Vernon A. Williams,
Secretary.

[FR Doc. 00-24165 Filed 9-21-00; 8:45 am]

BILLING CODE 4915-00-P